DEPARTMENT OF AGRICULTURE

Agricultural Marketing Service

[Doc. No. AMS-SC-17-0060; SC17-929-1]

Cranberries Grown in States of Massachusetts, Rhode Island, Connecticut, New Jersey, Wisconsin, Michigan, Minnesota, Oregon, Washington, and Long Island in the State of New York; Request for Approval of a New Information Collection

AGENCY: Agricultural Marketing Service, USDA.

ACTION: Notice and request for comments.

SUMMARY: In accordance with the Paperwork Reduction Act of 1995, this notice announces the Agency's intent to request emergency approval from the Office of Management and Budget (OMB) for a new information collection for cranberry handlers, where applicable, to provide prior affirmative consent authorizing five forms needed to implement and facilitate compliance with a handler withhold volume regulation for the 2017-18 season under the marketing order for cranberries grown in the states of Massachusetts, Rhode Island, Connecticut, New Jersey, Wisconsin, Michigan, Minnesota, Oregon, Washington, and Long Island in the State of New York.

DATES: Comments must be received by December 11, 2017. Pursuant to the Paperwork Reduction Act, comments on the information collection burden that would result from this notice must be received by December 11, 2017.

ADDRESSES: Interested persons are invited to submit comments concerning this notice by using the electronic process available at www.regulations.gov. Written comments may also be submitted to the Docket Clerk, Marketing Order and Agreement Division, Specialty Crops Program, AMS, USDA, 1400 Independence Avenue SW., STOP 0237, Washington, DC 20250-0237; Fax: (202) 720-8938. All comments should reference the document number and the date and page number of this issue of the Federal Register and will be made available for public inspection in the Office of the Docket Clerk during regular business hours, or can be viewed at: http://www.regulations.gov. All comments submitted in response to this notice will be included in the record and will be made available to the public. Please be advised that the identity of the individuals or entities submitting the comments will be made public on the Internet at the address provided above.

FOR FURTHER INFORMATION CONTACT: Doris Jamieson, Marketing Specialist, or Christian D. Nissen, Regional Director, Southeast Marketing Field Office, Marketing Order and Agreement Division, Specialty Crops Program, AMS, USDA; Telephone: (863) 324-3375, Fax: (863) 291-8614, or Email: Doris.Jamieson@ams.usda.gov or Christian.Nissen@ams.usda.gov.

SUPPLEMENTARY INFORMATION:

Overview of This Information Collection

Agency: Agricultural Marketing Service (AMS).

Title: Cranberries grown in States of Massachusetts, Rhode Island, Connecticut, New Jersey, Wisconsin, Michigan, Minnesota, Oregon, Washington, and Long Island in the State of New York; Marketing Order No. 929.

OMB Number: 0581-NEW.

Type of Request: New Information Collection.

Abstract: The information requirements in this request are essential to carry out the intent of the Agricultural Marketing Agreement Act of 1937, as amended (7 U.S.C. 601-674), hereinafter referred to as the “Act”, to provide the respondents the type of service they request, and to administer the cranberry marketing order program. The United States Department of Agriculture (USDA) is responsible for overseeing Marketing Agreement and Order No. 929, as amended (7 CFR part 929), regulating the handling of cranberries grown in the states of Massachusetts, Rhode Island, Connecticut, New Jersey, Wisconsin, Michigan, Minnesota, Oregon, Washington, and Long Island in the State of New York, hereinafter referred to as the “order.” The order is effective under the Act.

On August 31, 2017, the Cranberry Marketing Committee (Committee) recommended establishing a handler withhold volume regulation for the 2017-18 season in response to historically high inventory levels for cranberries. Following the recommendation for the handler withhold, the Committee developed the forms necessary to effectively carry out the handler withhold. Given that the industry has begun harvesting the 2017-18 crop, these forms need to be effective immediately.

On September 15, 2017, the Committee unanimously recommended that cranberry handlers covered under the order provide the Committee with a report indicating the anticipated total quantity of cranberries acquired by the handler, the amount withheld from handling, and the disposition of such withheld cranberries during the crop year. This form, titled “Handler Withholding Report,” will be submitted directly to the Committee by handlers by June 1, 2018. This report will give the Committee background data on how each handler plans to meet the requirements of the handler withhold volume regulation.

The Committee also recommended that handlers covered under the order submit a report certifying whenever a disposal of withheld cranberries is made. This report will contain information regarding the volume, the form of disposed cranberries, and information on the container type. This form, titled “Handler Disposal Certification,” will be submitted directly to the Committee by handlers following each disposal activity. This information collection provides the Committee with data regarding the amount of cranberries diverted and the information needed to help track handler compliance with the recommended handler withhold.

The Committee also recommended that handlers provide the Committee with a record of withheld cranberries disposed of in non-commercial outlets. This form, titled “Handler Application for Outlets for Withheld Fruit,” will be submitted directly to the Committee by handlers to provide information regarding the type, form, and volume of cranberries disposed of in noncompetitive outlets. Handlers will submit this form prior to each disposal activity of this type to provide the Committee with the opportunity to review and approve the requested outlet. This information collection provides the Committee with information on the noncompetitive outlets used to meet the requirements for withheld cranberries, and is necessary for the Committee to track compliance with the recommended handler withhold.

The Committee also recommended that handlers submit a report confirming the third-party receipt of withheld fruit. This form, titled “Third-Party Confirmation of Receipt of Withheld Fruit,” will include certification by outlets receiving withheld cranberries for use in a noncompetitive outlet. This form needs to be filed after each shipment of withheld fruit received by noncompetitive outlets, such as charities. This report contains information on the type, form, and volume of withheld fruit received. This reporting requirement helps track the disposition of withheld cranberries and facilitates compliance with the recommended handler withhold.

The Committee also recommended establishing a form for handlers to use to appeal any denial of a request made for disposing of cranberries in a noncompetitive outlet. This form, titled “Handler Withholding Appeal,” will need to be submitted by the handler making the appeal within 30 days of the denial. This form will include information on why the handler is making the appeal and what additional information is being provided.

The order authorizes the Committee to collect certain information as required. The information collected will only be used by authorized representatives of the USDA, including the AMS Specialty Crops Program regional and headquarters staff, and authorized employees of the Committee. All proprietary information will be kept confidential in accordance with the Act and the order.

The Committee developed these forms to effectively carry out a handler withhold volume regulation for the 2017-18 season. The purpose of these forms will be to ensure compliance with the recommended handler withhold.

Upon OMB approval of the new forms and the information collection package, AMS will request OMB approval to merge the new forms and this information collection in the currently approved information collection OMB control number 0581-0189, Fruit Crops.

The new information collection under the order is as follows:

Handler Withholding Report (CMC-JUN)

Estimate of Burden: Public reporting burden for this collection of information is estimated to be an average of 0.08 hours per response.

Respondents: Handlers of cranberries grown in the states of Massachusetts, Rhode Island, Connecticut, New Jersey, Wisconsin, Michigan, Minnesota, Oregon, Washington, and Long Island in the State of New York.

Estimated Number of Respondents: 10.

Estimated Number of Responses per Respondent: 1.

Estimated Total Annual Burden on Respondents: 0.8 hours.

Handler Disposal Certification (CMC-DISP)

Estimate of Burden: Public reporting burden for this collection of information is estimated to be an average of 0.17 hours per response.

Respondents: Handlers of cranberries grown in the states of Massachusetts, Rhode Island, Connecticut, New Jersey, Wisconsin, Michigan, Minnesota, Oregon, Washington, and Long Island in the State of New York.

Estimated Number of Respondents: 10.

Estimated Number of Responses per Respondent: 12.

Estimated Total Annual Burden on Respondents: 20.4 hours.

Handler Application for Outlets for Withheld Fruit (CMC-OUT)

Estimate of Burden: Public reporting burden for this collection of information is estimated to be an average of 0.08 hours per response.

Respondents: Handlers of cranberries grown in the states of Massachusetts, Rhode Island, Connecticut, New Jersey, Wisconsin, Michigan, Minnesota, Oregon, Washington, and Long Island in the State of New York.

Estimated Number of Respondents: 10.

Estimated Number of Responses per Respondent: 12.

Estimated Total Annual Burden on Respondents: 9.6 hours.

Third-Party Confirmation of Receipt of Withheld Fruit (CMC-CONF)

Estimate of Burden: Public reporting burden for this collection of information is estimated to be an average of 0.05 hours per response.

Respondents: Handlers of cranberries grown in the states of Massachusetts, Rhode Island, Connecticut, New Jersey, Wisconsin, Michigan, Minnesota, Oregon, Washington, and Long Island in the State of New York.

Estimated Number of Respondents: 10.

Estimated Number of Responses per Respondent: 12.

Estimated Total Annual Burden on Respondents: 6 hours.

Handler Withholding Appeal (CMC-APPL)

Estimate of Burden: Public reporting burden for this collection of information is estimated to be an average of 0.08 hours per response.

Respondents: Handlers of cranberries grown in the states of Massachusetts, Rhode Island, Connecticut, New Jersey, Wisconsin, Michigan, Minnesota, Oregon, Washington, and Long Island in the State of New York.

Estimated Number of Respondents: 5.

Estimated Number of Responses per Respondent: 2.

Estimated Total Annual Burden on Respondents: 0.8 hours.

Comments are invited on: (1) Whether the proposed collection of information is necessary for the proper performance of the functions of the Agency, including whether the information will have practical utility; (2) the accuracy of the Agency's estimate of the burden of the collection of information, including the validity of the methodology and assumptions used; (3) ways to enhance the quality, utility, and clarity of the information to be collected; and (4) ways to minimize the burden of the collection of information on those who are to respond, including the use of appropriate automated, electronic, mechanical, or other technological collection techniques or other forms of information technology.

Dated: October 4, 2017.
Bruce Summers,
Acting Administrator, Agricultural Marketing Service.

[FR Doc. 2017-21735 Filed 10-6-17; 8:45 am]

BILLING CODE 3410-02-P